DEPARTMENT OF HEALTH AND HUMAN SERVICES

Food and Drug Administration

[Docket No. FDA-2021-N-0279]

Determination That Folic Acid, Oral Tablets, 1 Milligram, and Other Drug Products Were Not Withdrawn From Sale for Reasons of Safety or Effectiveness

AGENCY: Food and Drug Administration, HHS.

ACTION: Notice.

SUMMARY: The Food and Drug Administration (FDA or Agency) has determined that the drug products listed in this document were not withdrawn from sale for reasons of safety or effectiveness. This determination means that FDA will not begin procedures to withdraw approval of abbreviated new drug applications (ANDAs) that refer to these drug products, and it will allow FDA to continue to approve ANDAs that refer to the products as long as they meet relevant legal and regulatory requirements.

FOR FURTHER INFORMATION CONTACT: Stacy Kane, Center for Drug Evaluation and Research, Food and Drug Administration, 10903 New Hampshire Ave., Bldg. 51, Rm. 6236, Silver Spring, MD 20993-0002, 301-796-8363, Stacy.Kane@fda.hhs.gov.

SUPPLEMENTARY INFORMATION: In 1984, Congress enacted the Drug Price Competition and Patent Term Restoration Act of 1984 (Pub. L. 98-417) (the 1984 amendments), which authorized the approval of duplicate versions of drug products approved under an ANDA procedure. ANDA applicants must, with certain exceptions, show that the drug for which they are seeking approval contains the same active ingredient in the same strength and dosage form as the “listed drug,” which is a version of the drug that was previously approved. ANDA applicants do not have to repeat the extensive clinical testing otherwise necessary to gain approval of a new drug application (NDA).

The 1984 amendments include what is now section 505(j)(7) of the Federal Food, Drug, and Cosmetic Act (21 U.S.C. 355(j)(7)), which requires FDA to publish a list of all approved drugs. FDA publishes this list as part of the “Approved Drug Products with Therapeutic Equivalence Evaluations,” which is generally known as the “Orange Book.” Under FDA regulations, a drug is removed from the list if the Agency withdraws or suspends approval of the drug's NDA or ANDA for reasons of safety or effectiveness, or if FDA determines that the listed drug was withdrawn from sale for reasons of safety or effectiveness (21 CFR 314.162).

Under § 314.161(a) (21 CFR 314.161(a)), the Agency must determine whether a listed drug was withdrawn from sale for reasons of safety or effectiveness: (1) Before an ANDA that refers to that listed drug may be approved, (2) whenever a listed drug is voluntarily withdrawn from sale and ANDAs that refer to the listed drug have been approved, and (3) when a person petitions for such a determination under 21 CFR 10.25(a) and 10.30. Section 314.161(d) provides that if FDA determines that a listed drug was withdrawn from sale for safety or effectiveness reasons, the Agency will initiate proceedings that could result in the withdrawal of approval of the ANDAs that refer to the listed drug.

FDA has become aware that the drug products listed in the table are no longer being marketed.

Application No. | Drug name | Active ingredient(s) | Strength(s) | Dosage form/route | Applicant
NDA 006135 | Folic Acid | Folic Acid | 1 milligram (mg) | Tablet; Oral | Eli Lilly & Co.
NDA 016131 | CLOMID | Clomiphene Citrate | 50 mg | Tablet; Oral | Sanofi-Aventis U.S. LLC.
NDA 016419 | Propranolol Hydrochloride | Propanolol Hydrochloride | 1 mg/milliliter (mL) | Injectable; Injection | Baxter Healthcare Corp.
NDA 017473 | ORAP | Pimozide | 1 mg; 2 mg | Tablet; Oral | Teva Pharms., USA, Inc.
NDA 019916 | Morphine Sulfate | Morphine Sulfate | 1 mg/mL; 5 mg/mL | Injectable; Injection | ICU Medical, Inc.
NDA 019967 | ULTRAVATE | Halobetasol Propionate | 0.05% | Cream; Topical | Sun Pharmaceutical Industries, Inc.
NDA 020647 | ELDEPRYL | Selegiline Hydrochloride | 5 mg | Capsule; Oral | Somerset Pharms., Inc.
NDA 020925 | TAVIST-1 | Clemastine Fumarate | 1.34 mg | Tablet; Oral | GlaxoSmithKline Consumer Healthcare.
NDA 021015 | ANDROGEL | Testosterone | 12.5 mg/1.25 g Actuation | Gel, Metered; Transdermal | AbbVie Inc.
NDA 021204 | STARLIX | Nateglinide | 60 mg; 120 mg | Tablets; Oral | Novartis Pharms., Corp.
NDA 021217 | EXALGO | Hydromorphone Hydrochloride | 8 mg; 12 mg; 16 mg; 32 mg | Tablet, Extended-Release; Oral | Specgx, LLC.
NDA 021365 | LEXAPRO | Escitalopram Oxalate | Equal to (EQ) 5 mg Base/5 mL | Solution; Oral | Allergan Sales, LLC.
NDA 021490 | FEMCON FE | Ethinyl Estradiol; Norethindrone | 0.035 mg; 0.4 mg | Tablet, Chewable; Oral | Allergan Pharms., International, Ltd.
NDA 021860 | SARAFEM | Fluoxetine Hydrochloride | EQ 15 mg Base | Tablet; Oral | Allergan Pharms. International, Ltd.
NDA 021870 | Fludeoxyglucose F-18 | Fludeoxyglucose F-18 | 20-200 Millicurie/mL | Injectable; Intravenous | Feinstein Institute Medical Research.
NDA 022442 | REZIRA | Hydrocodone Bitartrate; Pseudoephedrine Hydrochloride | 5 mg/5 mL; 60 mg/5 mL | Solution; Oral | Persion Pharms., LLC.
NDA 050757 | PREVPAC | Amoxicillin; Clarithromycin; Lansoprazole | 500 mg; 500 mg; 30 mg | Capsule, Tablet, Capsule; Oral | Takeda Pharms. USA, Inc.
NDA 203195 | SUPRAX | Cefixime | 400 mg | Capsule; Oral | Lupin, Ltd.
NDA 207931 | TECHNIVIE | Ombitasvir; Paritaprevir; Ritonavir | 12.5 mg; 75 mg; 50 mg | Tablet; Oral | AbbVie Inc.
NDA 208624 | VIEKIRA XR | Dasabuvir Sodium; Ombitasvir; Paritaprevir; Ritonavir | EQ 200 mg Base; 8.33 mg; 50 mg; 33.33 mg | Tablet, Extended Release; Oral | AbbVie Inc.

FDA has reviewed its records and, under § 314.161, has determined that the drug products listed were not withdrawn from sale for reasons of safety or effectiveness. Accordingly, the Agency will continue to list the drug products in the “Discontinued Drug Product List” section of the Orange Book. The “Discontinued Drug Product List” identifies, among other items, drug products that have been discontinued from marketing for reasons other than safety or effectiveness.

Approved ANDAs that refer to the NDAs listed are unaffected by the discontinued marketing of the products subject to those NDAs. Additional ANDAs that refer to these products may also be approved by the Agency if they comply with relevant legal and regulatory requirements. If FDA determines that labeling for these drug products should be revised to meet current standards, the Agency will advise ANDA applicants to submit such labeling.

Dated: March 19, 2021.
Lauren K. Roth,
Acting Principal Associate Commissioner for Policy.

[FR Doc. 2021-06059 Filed 3-23-21; 8:45 am]

BILLING CODE 4164-01-P